DEPARTMENT OF STATE

[Public Notice 5089]

Foreign Terrorists and Terrorist Organizations; Designation: Islamic Jihad Group

Determination pursuant to section 1(b) of Executive Order 13224 relating to the designation of Islamic Jihad Group, also known as Jama'at al-Jihad, also known as the Libyan Society, also known as the Kazakh Jama'at, also known as the Jamaat Mojahedin, also known as the Jamiyat, also known as Jamiat al-Jihad al-Islami, also known as Dzhamaat Modzhakhedov, also known as Islamic Jihad Group of Uzbekistan, also known as al-Djihad al-Islami.

Acting under the authority of section 1(b) of Executive Order 13224 of September 23, 2001, as amended by Executive Order 13286 of July 2, 2002, and Executive Order 13284 of January 23, 2003, and Executive Order 13372 of February 16, 2005 in consultation with the Secretary of the Treasury, the Attorney General, and the Secretary of Homeland Security, I hereby determine that the Islamic Jihad Group aka Jama'at al-Jihad, aka the Libyan Society, aka the Kazakh Jama'at, aka the Jamaat Mojahedin, aka the Jamiyat, aka Jamiat al-Jihad al-Islami, aka Dzhamaat Modzhakhedov, aka Islamic Jihad Group of Uzbekistan, aka al-Djihad al-Islami has committed and poses a significant risk of committing, acts of terrorism that threaten the security of U.S. nationals and the national security, foreign policy, or economy of the United States.

Consistent with the determination in section 10 of Executive Order 13224 that “prior notice to persons determined to be subject to the Order who might have a constitutional presence in the United States would render ineffectural the blocking and other measures authorized in the Order because of the ability to transfer funds instantaneously,” I determine that no prior notice need be provided to any person subject to this determination who might have a constitutional presence in the United States because to do so would render ineffectual the measures authorized in the Order.

This notice shall be published in the Federal Register.

Dated: May 12, 2005.
Condoleezza Rice,
Secretary of State, Department of State.

[FR Doc. 05-10450 Filed 5-24-05; 5:00 pm]

BILLING CODE 4710-10-P